DEPARTMENT OF COMMERCE

International Trade Administration

[A-423-808, A-791-805, A-583-830, C-791-806]

Stainless Steel Plate in Coils From Belgium, South Africa, and Taiwan: Continuation of Antidumping Duty Orders and Countervailing Duty Order

AGENCY: Enforcement and Compliance, International Trade Administration, Department of Commerce.

SUMMARY: As a result of the determinations by the Department of Commerce (Department) and the International Trade Commission (ITC) that revocation of the antidumping duty (AD) orders on stainless steel plate in coils (SSPC) from Belgium, South Africa, and Taiwan, and the countervailing duty (CVD) order on SSPC from South Africa, would likely lead to a continuation or recurrence of dumping and countervailable subsidies and material injury to an industry in the United States, the Department is publishing a notice of continuation of the AD orders and the CVD order.

DATES: Effective January 9, 2017.

FOR FURTHER INFORMATION CONTACT: Victoria Cho or Yasmin Bordas, AD/CVD Operations, Office VI, Enforcement and Compliance, International Trade Administration, U.S. Department of Commerce, 1401 Constitution Avenue NW., Washington, DC 20230; telephone: (202) 482-2312 or (202) 482-3813, respectively.

SUPPLEMENTARY INFORMATION:

Background

On July 1, 2016, the Department published the notice of initiation of the third sunset reviews of the AD orders on SSPC from Belgium, South Africa, and Taiwan, and the CVD order on SSPC from South Africa, pursuant to section 751(c) of the Tariff Act of 1930, as amended (the Act).¹ As a result of the reviews, the Department determined that revocation of the AD orders would likely lead to a continuation or recurrence of dumping, and that revocation of the CVD order would likely lead to continuation or recurrence of countervailable subsidies.² The Department, therefore, notified the ITC of the magnitude of the dumping margins and net countervailable subsidy rates likely to prevail should the AD orders and the CVD order be revoked. On January 3, 2016, the ITC published notice of its determination, pursuant to sections 751(c) and 752(a) of the Act, that revocation of the AD orders on SSPC from Belgium, South Africa, and Taiwan, and the CVD order on SSPC from South Africa, would likely lead to a continuation or recurrence of material injury to an industry in the United States within a reasonably foreseeable time.³

¹ See Initiation of Five-Year (“Sunset”) Reviews, 81 FR 43185 (July 1, 2016).

² See Stainless Steel Plate in Coils from Belgium, South Africa, and Taiwan: Final Results of the Expedited Sunset Reviews of the Antidumping Duty Orders, 81 FR 78774 (November 9, 2016) (AD Final Results); see also Stainless Steel Plate in Coils from South Africa: Final Results of Expedited Sunset Review of the Countervailing Duty Order, 81 FR 78115 (November 7, 2016) (CVD Final Results).

³ See Stainless Steel Plate in Coils from Belgium, South Africa, and Taiwan: Investigation Nos. 701-TA-379 and 701-TA-782, 792, and 793 (Third Review), USITC Publication 4658 (December 2016); see also Stainless Steel Plate in Coils from Belgium, South Africa, and Taiwan; Determination, 81 FR 140 (January 3, 2017).

Scope of the Orders

The product covered by these orders is certain stainless steel plate in coils. Stainless steel is alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of these orders are the following: (1) Plate not in coils, (2) plate that is not annealed or otherwise heat treated and pickled or otherwise descaled, (3) sheet and strip, and (4) flat bars. The merchandise subject to these orders is currently classifiable in the Harmonized Tariff Schedule of the United States (HTSUS) at subheadings: 7219.11.00.30, 7219.11.00.60, 7219.12.00.02, 7219.12.00.05, 7219.12.00.06, 7219.12.00.20, 7219.12.00.21, 7219.12.00.25, 7219.12.00.26, 7219.12.00.50, 7219.12.00.51, 7219.12.00.55, 7219.12.00.56, 7219.12.00.65, 7219.12.00.66, 7219.12.00.70, 7219.12.00.71, 7219.12.00.80, 7219.12.00.81, 7219.31.00.10, 7219.90.00.10, 7219.90.00.20, 7219.90.00.25, 7219.90.00.60, 7219.90.00.80, 7220.11.00.00, 7220.20.10.10, 7220.20.1 0.15, 7220.20.1 0.60, 7220.20.1 0.80, 7220.20.60.05, 7220.20.60.1 0, 7220.20.60.15, 7220.20.60.60, 7220.20.60.80, 7220.90.00.1 0, 7220.90.00.15, and 7220.90.00.60.

Although the HTSUS subheadings are provided for convenience and customs purposes, the written description of the merchandise subject to these orders is dispositive.

Continuation of the Orders

As a result of the determinations by the Department and the ITC that revocation of the AD orders and the CVD order would likely lead to a continuation or recurrence of dumping and countervailable subsidies and material injury to an industry in the United States, pursuant to section 751(d)(2) of the Act and 19 CFR 351.218(a), the Department hereby orders the continuation of the AD orders on SSPC from Belgium, South Africa, and Taiwan, and the CVD order on SSPC from South Africa.

U.S. Customs and Border Protection will continue to collect AD and CVD cash deposits at the rates in effect at the time of entry for all imports of subject merchandise. The effective date of the continuation of the orders will be the date of publication in the Federal Register of this notice of continuation. Pursuant to section 751(c)(2) of the Act, the Department intends to initiate the next five-year sunset reviews of the orders not later than 30 days prior to the fifth anniversary of the effective date of continuation.

These five-year sunset reviews and this notice are in accordance with section 751(c) of the Act and published pursuant to section 777(i)(1) of the Act and 19 CFR 351.218(f)(4).

Dated: January 3, 2017
Paul Piquado,
Assistant Secretary for Enforcement and Compliance.

[FR Doc. 2017-00140 Filed 1-6-17; 8:45 am]

BILLING CODE 3510-DS-P